DEPARTMENT OF HOMELAND SECURITY

Coast Guard

33 CFR Part 165

[CGD09-06-047]

Safety Zone: Captain of the Port Detroit Zone

AGENCY: Coast Guard, DHS.

ACTION: Notice of implementation of final rule.

SUMMARY: The Coast Guard is implementing safety zones for annual fireworks displays in the Captain of the Port Detroit Zone during July 2006. This action is necessary to provide for the safety of life and property on navigable waters during these events. These safety zones will restrict vessel traffic from a portion of the Captain of the Port Detroit Zone.

DATES: Effective from 12:01 a.m. (local) on July 1, 2006 to 11:59 p.m. (local) on July 31, 2006.

FOR FURTHER INFORMATION CONTACT: LTJG Cynthia Channell, Waterways Management, Sector Detroit, 110 Mt. Elliott Ave., Detroit, MI at (313) 568-9580.

SUPPLEMENTARY INFORMATION: The Coast Guard is implementing the permanent safety zones in 33 CFR 165.907 (published May 21, 2001, in the Federal Register, 66 FR 27868), for fireworks displays in the Captain of the Port Detroit Zone during July 2006. The following safety zones are in effect for fireworks displays occurring in the month of July 2006:

(1) Lake Erie Metro Park Fireworks, Brownstown, MI. Location: All waters off Lake Erie Metro Park, Lake Erie bounded by the arc of a circle with a 300-yard radius with its center located at approximate position 42° 03′ N, 083°11′ W (NAD 1983), on July 1, 2006, from 10 p.m. to 10:45 p.m.

(2) Grosse Pointe Farms Fireworks, Grosse Pointe Farms, MI. Location: All waters of Lake St. Clair within a 300-yard radius of the fireworks barge in approximate position 42°23′ N, 082°52′ W (NAD 1983), about 300 yards east of Grosse Pointe Farms, MI on July 1, 2006, from 10 p.m. to 11:30 p.m. Rain date: On July 2, 2006, from 10 p.m. to 11:30 p.m.

(3) Caseville Fireworks, Caseville, MI. Location: The waters off the Caseville breakwall, Saginaw River bounded by the arc of a circle with a 300-yard radius with its center in approximate position 43°55′ N, 083°17′ W (NAD 1983) on July 1, 2006 from 10 p.m. to 11 p.m.

(4) Algonac Pickerel Tournament Fireworks, Algonac, MI. Location: All waters of the St. Clair River within a 300-yard radius of the fireworks barge in approximate position 42°37′ N, 082°32′ W (NAD 1983), between Algonac and Russell Island, St. Clair River-North Channel, on July 1, 2006 from 10 p.m. to 11 p.m. Rain date: On July 2, 2006, from 10 p.m. to 11 p.m.

(5) Port Sanilac Fireworks, Port Sanilac, MI. Location: All waters off the South Harbor breakwall, Lake Huron bounded by the arc of a circle with a 300-yard radius with its center in approximate position 43°25′ N, 082°31′ W (NAD 1983) on July 1, 2006 from 10 p.m. to 10:30 p.m.

(6) Lexington Independence Festival Fireworks, Lexington, MI. Location: All waters of Lake Huron within a 300-yard radius of the fireworks barge in approximate position 43°13′ N, 082°30′ W (NAD 1983), about 300 yards east of the Lexington breakwall Lake Huron, on July 3, 2006 from 10 p.m. to 10:45 p.m.

(7) City of St. Clair Fireworks, St. Clair, MI. Location: All waters off the St. Clair City Park, St. Clair River bounded by the arc of a circle with a 300-yard radius with its center in approximate position 42°49′ N, 082°29′ W (NAD 1983) on July 4, 2006 from 10:45 p.m. to 11:30 p.m.

(8) Port Austin Fireworks, Port Austin, MI. Location: All waters off the Port Austin breakwall, Lake Huron bounded by the arc of a circle with a 300-yard radius with its center in approximate position 43°03′ N, 082°40′ W (NAD 1983) on July 4, 2006 from 11 p.m. to 11:59 p.m.

(9) City of Ecorse Water Festival Fireworks, Ecorse, MI. Location: All waters of the Ecorse Channel within a 300-yard radius of the fireworks barge in approximate position 42°14′ N, 083°09′ W (NAD 1983), at the northern end of Mud Island, Ecorse, MI, on July 4, 2006 from 9:30 p.m. to 11 p.m.

(10) Grosse Pointe Yacht Club 4th of July Fireworks, Grosse Pointe Shores, MI. Location: All waters of Lake St. Clair within a 300-yard radius of the fireworks barge in approximate position 42°25′ N, 082°52′ W (NAD 1983), about 400 yards east of the Grosse Pointe Yacht Club seawall, on July 4, 2006 from 10 p.m. to 11:30 p.m.

(11) Grosse Ile Yacht Club Fireworks, Grosse Ile, MI. Location: All waters off the Grosse Ile Yacht Club Deck, Detroit River bounded by the arc of a circle with a 300-yard radius with its center in approximate position 42°05′ N, 083°09′ W (NAD 1983) on July 4, 2006 from 09:45 p.m. to 10:45 p.m.

(12) Trenton Fireworks Display, Trenton, MI. Location: All waters of the Trenton Channel within a 300-yard radius of the fireworks barge in approximate position 42°09′ N, 083°10′ W (NAD 1983), about 200 yards east of Trenton, in the Trenton Channel, on July 4, 2006 from 10 p.m. to 11 p.m. Rain date: On July 5, 2006 from 10 p.m. to 11 p.m.

(13) Belle Maer Harbor 4th of July Fireworks, Harrison Township, MI. Location: All waters of Lake St. Clair within a 300-yard radius of the fireworks barge located in approximate position 42°36′ N, 082°47′ W (NAD 1983), about 400 yards east of Belle Maer Harbor, Lake St. Clair, on July 4, 2006 from 9:45 p.m. to 11 p.m. Rain date: On July 5, 2006 from 9:45 p.m. to 11 p.m.

(14) Tawas City 4th of July Fireworks, Tawas, MI. Location: All waters off the Tawas City Pier, Lake Huron bounded by the arc of a circle with a 300-yard radius with its center in approximate position 44°13′ N, 083°30′ W (NAD 1983), on July 4, 2006 from 9:45 p.m. to 11 p.m.

In order to ensure the safety of spectators and transiting vessels, these safety zones will be in effect for the duration of the events.

In the event that these safety zones affect shipping, commercial vessels may request permission from the Captain of the Port Detroit to transit through the safety zone.

Requests must be made in advance and approved by the Captain of Port before transits will be authorized. The Captain of the Port may be contacted via U.S. Coast Guard Group Detroit on channel 16, VHF-FM. The Coast Guard will give notice to the public via a Broadcast to Mariners that the regulation is in effect.

Dated: June 8, 2006.
P.W. Brennan,
Captain, U.S. Coast Guard, Captain of the Port Detroit.

[FR Doc. E6-10284 Filed 6-29-06; 8:45 am]

BILLING CODE 4910-15-P